SECURITIES AND EXCHANGE COMMISSION

[SEC File No. 270-291, OMB Control No. 3235-0328]

Submission for OMB Review; Comment Request

Upon Written Request Copies Available From: Securities and Exchange Commission, Office of FOIA Services, 100 F Street NE, Washington, DC 20549-2736

Extension:

Form ID

Notice is hereby given that, pursuant to the Paperwork Reduction Act of 1995 (44 U.S.C. 3501 et seq.), the Securities and Exchange Commission (“Commission”) has submitted to the Office of Management and Budget this request for extension of the previously approved collection of information discussed below.

Form ID (OMB Control No. 3235-0328; SEC File No. 270-291) is used by companies and other entities to apply for identification numbers and passwords used in conjunction with the EDGAR electronic filing system. The information provided on Form ID is essential to the security of the EDGAR system. Form ID is a not a public document because it is used solely for the purpose of registering filers on the EDGAR system. Form ID must be filed every time a registrant or other person obtains or changes an identification number. Form ID is filed by individuals, companies or other for-profit organizations that are required to file electronically. We estimate approximately 48,493 registrants file Form ID and it takes approximately an estimated 0.15 hours per response for a total annual burden of 7,274 hours.

An agency may conduct or sponsor, and a person is not required to respond to, a collection of information unless it displays a currently valid control number.

The public may view background documentation for this information collection at the following website: www.reginfo.gov. Find this particular information collection by selecting “Currently under 30-day Review—Open for Public Comments” or by using the search function. Written comments and recommendations for the proposed information collection should be sent within 30 days of publication of this notice by June 13, 2022 to (i) www.reginfo.gov/public/do/PRAMain and (ii) David Bottom, Director/Chief Information Officer, Securities and Exchange Commission, c/o John Pezzullo, 100 F Street NE, Washington, DC 20549, or by sending an email to: PRA_Mailbox@sec.gov.

Dated: May 9, 2022.
J. Matthew DeLesDernier,
Assistant Secretary.

[FR Doc. 2022-10291 Filed 5-12-22; 8:45 am]

BILLING CODE 8011-01-P